DEPARTMENT OF TRANSPORTATION

Maritime Administration

[Docket No. MARAD-2023-0087]

Coastwise-Qualified Launch Barges: 46 CFR 389.3(a) Notifications

AGENCY: Maritime Administration (MARAD), Department of Transportation (DOT).

ACTION: Notice and request for comments.

SUMMARY: To maximize the use of coastwise-qualified vessels, in January of each calendar year, MARAD requests owners and operators of coastwise-qualified launch barges or other interested parties to notify the Agency of their interest in, and provide certain information relating to, the transportation, installation, or launching of platform jackets. MARAD publishes the notifications as a resource to companies contemplating these operations on the outer continental shelf. The notifications should include information set forth in the Supplementary Information section below.

DATES: Submit comments on or before May 30, 2023.

ADDRESSES: You may submit comments identified by DOT Docket Number MARAD-2023-0087 by any of the following methods:

• Website/Federal eRulemaking Portal: Go to http://www.regulations.gov. Search “MARAD-2023-0087” and follow the instructions for submitting comments on the electronic docket site.

• Mail or Hand Delivery: Docket Management Facility, U.S. Department of Transportation, 1200 New Jersey Avenue SE, West Building, Room W12-140, Washington, DC 20590, between 9 a.m. and 5 p.m., Monday through Friday, except on Federal holidays.

Note: All submissions must include the agency name and docket number for this notice. All comments received will be posted without change to http://www.regulations.gov including any personal information provided.

Docket: For access to the docket to read comments received, go to http://www.regulations.gov and search using “MARAD-2023-0087.”

FOR FURTHER INFORMATION CONTACT: Jennifer Meurer, U.S. Department of Transportation, Maritime Administration, 1200 New Jersey Avenue SE, Room W23-453, Washington, DC 20590. Telephone: (202) 731-6220. Email: Jennifer.Meurer@dot.gov.

SUPPLEMENTARY INFORMATION: Pursuant to 46 U.S.C. 55108, the Secretary of Transportation has the authority to adopt procedures that timely provide information that would maximize the use of coastwise-qualified vessels for the transportation of platform jackets between U.S. coastwise points and the outer continental shelf. This authority has been delegated to MARAD. The regulations promulgated under the authority of 46 U.S.C. 55108 and 46 CFR 389.3(a), require that MARAD publish a notice in the Federal Register requesting notification from owners, operators, or potential operators of coastwise-qualified launch barges, or other interested parties, of: (1) their interest in participating in the transportation and, if needed, the launching or installation of offshore platform jackets; (2) the contact information for their company; and (3) the specifications of any currently owned or operated coastwise-qualified launch barges or plans to construct such a vessel. The notification should indicate that the vessel's certificate of documentation has a coastwise endorsement. The information provided in the notifications will be published at http://MARAD.dot.gov. 46 CFR 389.3(e).

Privacy Act

In accordance with 5 U.S.C. 553(c), MARAD solicits comments from owners and operators of coastwise-qualified launch barges to compile a list of vessels that could potentially be available to transport, and if necessary, launch or install platform jackets. All timely comments will be considered; however, to facilitate comment tracking, commenters should provide their name or the name of their organization. If comments contain proprietary or confidential information, commenters may contact the agency for alternate submission instructions. Anyone can search the electronic form of all comments received into any of our dockets by the name of the individual submitting the comment (or signing the comment, if submitted on behalf of an association, business, labor union, etc.). For information on DOT's compliance with the Privacy Act, please visit https://www.transportation.gov/privacy.

(Authority: 46 U.S.C. 55108, 49 CFR 1.93(a), 46 CFR 389.)

By Order of the Maritime Administrator.
T. Mitchell Hudson, Jr.,
Secretary, Maritime Administration.

[FR Doc. 2023-08910 Filed 4-26-23; 8:45 am]

BILLING CODE 4910-81-P